DEPARTMENT OF TRANSPORTATION

Federal Aviation Administration

Notice of Intent To Release Certain Properties From All Terms, Conditions, Reservations and Restrictions of a Quitclaim Deed Agreement Between the City of Williston and the Federal Aviation Administration for the Williston Municipal Airport, Williston, FL

AGENCY: Federal Aviation Administration (FAA), DOT.

ACTION: Request for public comment.

SUMMARY: The FAA hereby provides notice of intent to release certain airport properties 7.911 acres at the Williston Municipal Airport, Florida from the conditions, reservations, and restrictions as contained in a Quitclaim Deed agreement between the FAA and the Williston Municipal Airport, dated March 31, 1947. The City of Williston dedicated a 7.911 acre tract along 170th Avenue NE., 20th Street NE., 175th Avenue and NE., 25th Street to become a Public Right-of-Way. The Fair Market Value (FMV) of this parcel has been determined to be $44,600.00.

Documents reflecting the Sponsor's request are available, by appointment only, for inspection at the Williston Municipal and the FAA Airports District Office.

DATES: Comments are due on or before July 27, 2017.

ADDRESSES: Documents are available for review at the Williston Municipal Airport, 1800 SW. 19th Avenue, Williston, FL 32696 and the FAA Airports District Office, 5950 Hazeltine National Drive, Suite 400, Orlando, FL 32822. Written comments on the Sponsor's request must be delivered or mailed to: Stephen Wilson, Program Manager, Orlando Airports District Office, 5950 Hazeltine National Drive, Suite 400, Orlando, FL 32822-5024.

In addition, a copy of any comments submitted to the FAA must be mailed or delivered to Mr. Scott Lippmann, City and Airport Manager, City of Williston, 50 NW. Main Street, P.O. Box Drawer 160, Williston, FL 32696-0160.

FOR FURTHER INFORMATION CONTACT: Stephen Wilson, Program Manager, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or modification” of a sponsor's Federal obligation to use certain airport land for non-aeronautical purposes.

Issued in Orlando, FL on June 19, 2017.
Bart Vernace,
Manager, Orlando Airports District Office Southern Region.

[FR Doc. 2017-13457 Filed 6-26-17; 8:45 am]

BILLING CODE 4910-13-P